DEPARTMENT OF THE INTERIOR

National Park Service

36 CFR Part 9

[2310-0062-422]

Nonfederal Oil and Gas Development Within the Boundaries of Units of the National Park System; Intent To Prepare an Environmental Impact Statement for a Proposed Revision

AGENCY: National Park Service, Interior.

ACTION: Proposed rule; intent to prepare an environmental impact statement.

SUMMARY: Notice is hereby given in accordance with the National Environmental Policy Act of 1969 (NEPA) and Council on Environmental Quality regulations that the U.S. Department of the Interior, National Park Service (NPS), will prepare a programmatic environmental impact statement (EIS) on proposed revisions to existing regulations governing the exercise of nonfederal oil and gas rights within the boundaries of units of the National Park System. The current regulations have been in effect for over thirty years and have not been substantively updated during that period. The EIS will analyze a range of reasonable alternatives for regulating nonfederal oil and gas development and the potential environmental impacts on park resources such as threatened and endangered species, water resources, soils, vegetation, wetlands, air resources, night skies, wildlife, cultural resources, and soundscapes. Effects on oil and gas operators, visitor experience and public safety, adjacent lands, and park operations will also be analyzed.

DATES: Comments must be received by February 28, 2011.

ADDRESSES: Written comments or requests for information should be addressed to Sandy Hamilton, Environmental Quality Division, National Park Service, Academy Place, P.O. Box 25287, Denver, CO 80225. If you wish to comment electronically, you may submit your comments online in the NPS Planning, Environment and Public Comment (PEPC) Web site at http://parkplanning.nps.gov/WASO. Faxed or e-mailed comments will not be accepted. Comments should be received by the NPS within 60 days of the date of the publication of this notice in the Federal Register. Please be aware that your entire comment—including personal identifying information—may be made publicly available at any time. While you can ask us in your comments to withhold your personal identifying information from public review, we cannot guarantee that we will be able to do so.

FOR FURTHER INFORMATION CONTACT: Sandy Hamilton, Environmental Protection Specialist, at 303-969-2068, or by mail at Sandy Hamilton, Environmental Quality Division, National Park Service, Academy Place, P.O. Box 25287, Denver, CO 80225. Further information about this project, including the Advanced Notice of Public Rulemaking and “Frequently Asked Questions” about the difference between the NEPA planning process and the rulemaking process, may also be found on the PEPC Web site for this project http://parkplanning.nps.gov/WASO.

SUPPLEMENTARY INFORMATION: To determine the scope of issues to be addressed in the EIS and to identify significant issues related to the proposed regulations revision, the NPS is seeking public comment on the draft purpose and need, objectives, and issues and concerns related to revisions of the NPS regulations governing nonfederal oil and gas development on units of the National Park System. The NPS also seeks comment on possible alternatives it should consider for revising the regulations. The NPS invites the public to submit comments electronically on the NPS Planning, Environment and Public Comment (PEPC) Web site at http://parkplanning.nps.gov/WASO or by mail to the address cited in the ADDRESSES section during the 60-day comment period following the publication of this notice of intent in the Federal Register.

The NPS does not plan to hold national public scoping meetings for this DEIS due to the programmatic nature of the regulations and the widely dispersed locations of the 45 parks that could be affected by the revisions. However, some individual parks may choose to hold public scoping meetings in their locality. Such meetings would be advertised by those parks using their normal media and mailing list contacts. At present, 12 park units contain existing nonfederal oil and gas development within their boundaries.

The NPS promulgated regulations at 36 CFR part 9, subpart B (“9B regulations”) governing nonfederal oil and gas development in units of the National Park System in December 1978, with a January 1979 effective date. The regulations control all activities associated with nonfederal oil and gas development inside park boundaries where access is on, across, or through federally owned or controlled lands or waters. At this time 693 nonfederal oil and gas operations exist in a total of 12 units of the National Park System.

The purpose of the 9B regulations is to avoid or minimize the adverse effects of nonfederal oil and gas operations on natural and cultural resources, visitor uses and experiences, provide for public safety, and minimize adverse effects on park infrastructure and management.

Revisions to the 9B regulations are needed because:

• The NPS has limited ability to address 53% of nonfederal oil and gas operations (grandfathered operations and operations that do not require access across federally owned lands) that are currently exempt from the 9B regulatory requirements.

• The existing regulations do not incorporate industry advances in technology and practices developed over the last 30 years.

• The existing regulations limit the NPS ability to require adequate financial assurance from operators to ensure that funds are available to reclaim operation sites in the event operators fail to fulfill their obligations under an approved plan of operations.

• There is an opportunity to have more understandable, comprehensive, and enforceable operating standards.

• The NPS has limited means under the existing regulations to address minor violations of an approved plan of operations or the 9B regulations that would not justify a suspension.

• The existing regulations do not clearly state the scope of NPS jurisdiction for directional drilling operations sited on lands outside park boundaries.

• The existing regulations are not consistent with practices of other Federal agencies and private landowners by requiring compensation for privileged access across federally owned lands for operators accessing their leaseholds.

• The existing regulations do not provide a means for the NPS, as appropriate, to recover the costs for processing and monitoring nonfederal oil and gas operations in parks.

The NPS has identified the following draft objectives for revising the 9B regulations:

• All operations within the boundary of NPS units are regulated under the 9B regulations.

• Operating standards are updated to incorporate new scientific findings, technologies, and methods least damaging to park resources and values.

• The public and park staff are protected from health and safety hazards associated with nonfederal oil and gas operations.

• Financial assurance is adequate to ensure that park resources and values are protected.

• The regulations provide a practical means for dealing with minor acts of noncompliance or with illegal operations (unauthorized operations).

• Fair compensation for an operator's use of federal land outside of its leasehold is obtained.

• Regulations are more understandable to the regulated operating community, public, and park staff.

• Directional drilling operations are regulated to retain incentives for operators to site operations outside of parks but still retain the NPS' ability to protect park resources and values to the fullest extent practical.

The draft and final 9B Regulations Revision EIS will be made available to all known interested parties and appropriate agencies. Full public participation by Federal, State, and local agencies as well as other concerned organizations and private citizens is invited throughout the preparation process of this document.

The responsible official for this 9B Regulations Revision EIS is Herbert Frost, Associate Director for Natural Resources Stewardship and Science, 1849 C Street, NW., Room 3130, Washington, DC 20240-0001.

Dated: December 10, 2010.
Herbert C. Frost,
Associate Director, Natural Resource Stewardship and Science.

[FR Doc. 2010-32545 Filed 12-29-10; 8:45 am]

BILLING CODE 4310-EH-P